DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 13, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: 2023 Pulse Survey: Operational Challenges in Child Nutrition Programs.

OMB Control Number: 0584-NEW.

Summary of Collection: FNS administers the Child Nutrition (CN) Programs in partnership with States, local SFAs, other program sponsors, and local program operators. Section 28(a) of the Richard B. Russell National School Lunch Act authorizes the U.S. Department of Agriculture Secretary to conduct annual national performance assessments of the school meal programs and requires States and local entities participating in the programs to cooperate with program research and evaluations. FNS plans to collect periodic data to obtain information on operational challenges facing institutions who operate or administer child nutrition programs, including State agencies, SFAs and Summer Food Service Program (SFSP) Sponsors. The Operational Challenges in Child Nutrition Programs (OCCNP) Surveys, are designed to collect timely data on emerging school food service operational challenges, including but not limited to supply chain disruptions, food costs, and labor shortages, and/or related issues in SY 2023-2024, 2024-2025, and SY 2025-2026.

Need and Use of the Information: Access to a timely and reliable source of data on these topics has become particularly important following the COVID-19 pandemic. In addition to changing the ways that school meal programs operated, the pandemic has contributed to lasting supply chain issues and substantial changes in the cost and availability of food and labor. The ability to collect this data will allow FNS to provide the best possible support to States and program sponsors and operators facing continued food service operations challenges and enable FNS to respond more quickly and effectively to potential disruptions in the future.

Description of Respondents: State, Local and Tribal Governments, Business, Private not-for-profit.

Number of Respondents: 19,106.

Frequency of Responses: Reporting: On Occasion, Annually.

Total Burden Hours: 8,833.

Ruth Brown,
Departmental Information Collection Clearance Officer.

[FR Doc. 2023-24906 Filed 11-9-23; 8:45 am]

BILLING CODE 3410-30-P